DEPARTMENT OF THE INTERIOR

Fish and Wildlife Service

[1018-AG46]

Draft Policy on National Wildlife Refuge System: Mission, Goals, and Purposes

AGENCY: Fish and Wildlife Service, Interior.

ACTION: Notice.

SUMMARY: We propose to adopt a policy articulating the mission of the National Wildlife Refuge System (System), establishing its goals, and providing guidance for identifying or determining the purpose(s) of individual refuge units within the System. We propose that this policy be incorporated into the Fish and Wildlife Service Manual. The chapter will be consistent with the principles contained within the National Wildlife Refuge System Administration Act of 1966 (NWRSAA-1966), as amended by the National Wildlife Refuge System Improvement Act of 1997 (NWRSIA-1997), including recognizing the priority for management activities set forth in the NWRSIA-1997 (wildlife, wildlife-dependent uses, and other uses) in setting and achieving refuge goals and objectives.

The draft chapter also provides policy on how the purpose(s) of refuge additions relate to the original refuge purpose(s), and how wilderness designated under the Wilderness Act can affect a refuge's purpose(s). It also provides a decision-tree for how to determine refuge purpose(s) from existing documentation.

DATES: Comments must be received by March 19, 2001.

ADDRESSES: Send comments concerning this draft policy via mail, fax, or email to: Barry Stieglitz, Acting Chief, Division of Conservation Planning and Policy, National Wildlife Refuge System, U.S. Fish and Wildlife Service, 4401 N. Fairfax Drive, Room 670, Arlington, Virginia, 22203; fax (703) 358-2248; email Mission_And_Goals_ Policy_Comments@fws.gov.

FOR FURTHER INFORMATION CONTACT: Barry Stieglitz, National Wildlife Refuge System, U.S. Fish and Wildlife Service, Telephone (703) 358-1744.

SUPPLEMENTARY INFORMATION: The NWRSIA-1997 (Pub. L. 105-57) amends and builds upon the NWRSAA-1966 (16 U.S.C. 668dd-668ee), providing an “Organic Act” for the System. It clearly establishes that wildlife conservation is the singular mission of the System and affirms the importance of refuge purposes as they relate to the broader System mission. It states that we shall manage each refuge to fulfill the mission of the System, as well as the specific purpose(s) for which that refuge was established.

The NWRSIA-1997 also provides a clear hierarchy of activities: wildlife conservation, wildlife-dependent recreational uses, and other uses. This chapter reinforces this hierarchy and allows us to articulate our goals for the System, given the direction this new legislation provides. We will incorporate this chapter in the Service Manual as 601 FW 1, replacing 2 RM 1 “Objectives of the National Wildlife Refuge System,” which has been in effect since 1982. The complete text of the policy concludes this document, but the following is a overview of the chapter.

Overview of the Draft National Wildlife Refuge System: Mission, Goals, and Purposes Policy

Section 1.1 presents the purpose of the chapter.

Section 1.2 explains that this chapter applies to national wildlife refuges, waterfowl production areas, and coordination areas, which are all units of the System. It does not apply to administrative sites or national fish hatcheries.

Section 1.3 describes how the System mission and goals, and individual unit purposes relate to each other. It reiterates the NWRSIA-1997 language that clearly provides for a unit's purpose(s) to receive priority over the System mission, should there be a conflict between the two.

Section 1.4 describes the mission of the System.

Section 1.5 describes how the System mission relates to the Service mission. The network of lands and waters within the System clearly supports the Service mission of “* * * working with others, to conserve, protect, and enhance fish, wildlife, and plants and their habitats for the continuing benefit of the American people.”

Section 1.6 lists the goals of the System. These are:

A. To fulfill our statutory duty to achieve refuge purpose(s) and further the System mission;

B. Conserve, restore where appropriate, and enhance all species of fish, wildlife, and plants that are endangered or threatened with becoming endangered;

C. Perpetuate migratory bird, interjurisdictional fish, and marine mammal populations;

D. Conserve a diversity of fish, wildlife, and plants;

E. Conserve and restore as appropriate representative ecosystems of the United States, including the ecological processes characteristic of those ecosystems; and

F. To foster understanding and instill appreciation of native fish, wildlife, and plants, and their conservation, by providing the public with safe, high-quality, and compatible wildlife-dependent public use. Such use includes hunting, fishing, wildlife observation and photography, and environmental education and interpretation.

Section 1.7 describes each of these goals in more detail and justification for why each goal is appropriate for the System.

Section 1.8 explains the relationship the identified goals have to our management priorities. It reiterates the priorities established in the NWRSIA-1997 to be: (1) Wildlife, (2) wildlife-dependent uses, and (3) other uses.

Section 1.9 discusses how we will use these System goals to provide the philosophical foundation of the System; to consider when developing wildlife population and habitat goals and objectives; to guide the land acquisition decision-making process; and in making determinations regarding appropriate uses and compatibility.

Section 1.10 describes what a “unit purpose” is, quoting from the NWRSIA-1997.

Section 1.11 discusses the importance of unit purposes.

Section 1.12 gives examples of unit purposes, and explains that some may be quite broadly written, while others may have a more narrow focus.

Section 1.13 gives the references where unit purposes can be found for each unit in the System.

Section 1.14 discusses how to determine which purpose(s) take priority over others, if a particular unit has multiple purposes associated with it.

Section 1.15 discusses the relationship of purposes for additions to existing units affect the original purpose(s) of the established unit(s), and vice versa.

Section 1.16 discusses how wilderness areas designated under the Wilderness Act (16 U.S.C. 1131-1136) affect a unit's purpose(s).

Section 1.17 provides a process for determining the purpose(s) of units of the System. It is a decision-tree that guides you through establishment/authorization methods and what other references you may need when purposes have not been clearly articulated in establishment/authorization documents. It also specifies that the Director of the Service must approve purposes in cases where establishing/authorizing documents do not articulate the purpose(s).

Comment Solicitation

If you wish to comment, you may submit your comments by any one of several methods. You may mail comments to: Barry Stieglitz, National Wildlife Refuge System, U.S. Fish and Wildlife Service, 4401 North Fairfax Drive—MS670, Arlington, VA 22203. You may comment via the Internet to: Mission_And_Goals _Policy_ Comments@fws.gov. Please submit Internet comments as an ASCII file, avoiding the use of special characters and any form of encryption. If you do not receive a confirmation from the system that we have received your Internet message, contact us directly at (703) 358-1744. You may also fax comments to: Barry Stieglitz, National Wildlife Refuge System, (703) 358-2248. Finally, you may hand-deliver comments to the address mentioned above.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses and from individuals identifying themselves as representative or officials of organizations or businesses, available for public inspection in their entirety.

We seek public comments on this draft policy and will take into consideration comments and any additional information received during the 60-day comment period.

We published a notice in the Federal Register on January 23, 1998 (63 FR 3583) notifying the public that we would be revising the Service Manual, establishing regulations as they relate to the NWRSIA-1997, and offering to send copies of specific draft Service Manual chapters to anyone who would like to receive them. We will mail a copy of this draft Service Manual chapter to those who requested one. In addition, this draft Service Manual chapter will be available on the Internet at http://www.fws.gov/directives/library/frindex.html during the 60-day comment period.

Required Determinations

Regulatory Planning and Review

In accordance with the criteria in Executive Order 12866, this document is not a significant regulatory action. The Office of Management and Budget (OMB) makes the final determination under Executive Order 12866.

a. This document will not have an annual economic effect of $100 million or adversely affect an economic sector, productivity, jobs, the environment, or other units of government. A cost-benefit or full economic analysis is not required. This document is administrative and procedural in nature. This draft National Wildlife Refuge System policy provides for a hierarchy of activities and establishes the process for articulating the goals for the System. This policy will have the effect of providing priority consideration for wildlife conservation and wildlife-dependent recreational uses involving hunting, fishing, wildlife observation and photography, and environmental education and interpretation and other uses. Existing policy has been in place since 1982. The NWRSIA-1997 does not change this direction in public use, but provides legal recognition for the mission, goals, and purposes of the System. We expect this articulated policy will not cause a measurable economic effect to existing national wildlife refuge public use programs.

The appropriate measure of the economic effect of changes in recreational use is the change in the welfare of recreationists. We measure this in terms of willingness to pay for the recreational opportunity. We estimated total annual willingness to pay for all recreation at national wildlife refuges to be $372.5 million in Fiscal Year 1995 (Banking on Nature: The Economic Benefits to Local Communities of National Wildlife Refuge Visitation, DOI/FWS/Refuges 1997). We expect the policy implemented in this document will not affect public uses of the Refuge System. This does not mean that every refuge will have the same public uses. Public uses of a refuge are determined when a refuge is established and after public hearings are held. Only compatible uses with the purpose of the refuge are proposed for public review and comment. This policy will provide for a unit's purposes to receive priority over System mission should there be a conflict between the two.

This document will not make changes in the amounts of public activities occurring on national wildlife refuges. There will not be a change in the total benefits of permitted public uses activities on national wildlife refuges.

b. This document will not create a serious inconsistency or otherwise interfere with an action taken or planned by another agency since the document pertains solely to management of national wildlife refuges by the Service.

c. This document does not alter the budgetary effects or entitlements, grants, user fees, or loan programs or the rights or obligations of their recipients. There are no grants or other Federal assistance programs associated with public use of national wildlife refuges.

d. This document does not raise novel legal or policy issues; however, it does provide a hierarchy of activities pursuant to the NWRSIA-1997 provisions that ensure that wildlife conservation, wildlife-dependent recreational uses and other uses are the priority public uses of the System.

Regulatory Flexibility Act

We certify that this document will not have a significant economic effect on a substantial number of small entities under the Regulatory Flexibility Act (5 U.S.C. 601 et seq.).

Congress created the National Wildlife Refuge System to conserve fish, wildlife, and plants and their habitats and facilitated this conservation mission by providing Americans opportunities to visit and participate in compatible wildlife-dependent recreation (hunting, fishing, wildlife observation and photography, and environmental education and interpretation) as priority general public uses on national wildlife refuges and to better appreciate the value of, and need for, wildlife conservation.

This document is administrative and procedural in nature and provides for a hierarchy of activities on refuges: wildlife conservation, wildlife-dependent recreation and other uses. Since uses of a national wildlife refuge are determined with the establishment of the refuge, which includes public hearings, this policy will not affect public uses of refuges, and consequently, not affect any business establishments in the vicinity of any refuge.

National wildlife refuge visitation is a small component of the wildlife recreation industry as a whole. In 1996, 77 million U.S. residents over 15 years old spent 1.2 billion activity-days in wildlife-associated recreation activities. They spent about $30 billion on fishing, hunting, and wildlife watching trips (Tables 49, 54, 59, 63, 1996 National Survey of Fishing, Hunting, and Wildlife-Associated Recreation, DOI/FWS/FA, 1997). National wildlife refuges recorded about 29 million visitor-days that year (RMIS, FY1996 Public Use Summary). A study of 1995 national wildlife refuge visitors found their travel spending generated $401 million in sales and 10,000 jobs for local economies (Banking on Nature: The Economic Benefits to Local Communities of National Wildlife Refuge Visitation, DOI/FWS/Refuges, 1997). These spending figures include spending which would have occurred in the community anyway, and so they show the importance of the activity in the local economy rather than its incremental impact. Marginally greater recreational opportunities on national wildlife refuges will have little industry-wide effect.

There are no expected changes in expenditures as a result of this document. We expect there will not be a change in recreational opportunities so we do not expect the document to have a significant economic effect on a substantial number of small entities in any region or nationally.

Small Business Regulatory Enforcement Fairness Act

This document is not a major rule under 5 U.S.C. 804(2), the Small Business Regulatory Enforcement Fairness Act. This document:

a. Does not have an annual effect on the economy of $100 million or more. These regulations will affect only visitors at national wildlife refuges. They may result in increased visitation at refuges and provide for minor changes to the methods of public use permitted within the National Wildlife Refuge System. Refer to response under Regulatory Flexibility Act.

b. Will not cause a major increase in costs or prices for consumers, individual industries, Federal, State, or local government agencies, or geographic regions. See response above.

c. Does not have significant adverse effects on competition, employment, investment, productivity, innovation, or the ability of U.S.-based enterprises to compete with foreign-based enterprises. See response above.

Unfunded Mandates Reform Act

In accordance with the Unfunded Mandates Reform Act (2 U.S.C. 1501, et seq.):

a. This document will not “significantly or uniquely” affect small governments. A Small Government Agency Plan is not required. See response to Regulatory Flexibility Act.

b. This document will not produce a Federal mandate of $100 million or greater in any year, i.e., it is not a “significant regulatory action” under the Unfunded Mandates Reform Act. See response to Regulatory Flexibility Act.

Takings

In accordance with Executive Order 12630, the document does not have significant takings implications. A takings implication assessment is not required. These regulations may result in increased visitation at refuges and provide for minor changes to the methods of public use permitted within the National Wildlife Refuge System. Refer to response under Regulatory Flexibility Act.

Federalism

In accordance with Executive Order 13132, the document does not have significant federalism effects. This document will not have substantial direct effects on the States, in their relationship between the Federal Government and the States, or on the distribution of power and responsibilities among the various levels of government. Therefore, in accordance with Executive Order 13132, we have determined that this document does not have sufficient federalism implications to warrant the preparation of a Federalism Assessment.

Civil Justice Reform

In accordance with Executive Order 12988, the Office of the Solicitor has determined that the document does not unduly burden the judicial system and meets the requirements of sections 3(a) and 3(b)(2) of the Order. The regulation will expand upon established regulations, and result in better understanding of the regulations by refuge visitors.

Paperwork Reduction Act

This document does not require an information collection from ten or more parties and a submission under the Paperwork Reduction Act of 1995 is not required.

National Environmental Policy Act

We ensure compliance with the National Environmental Policy Act of 1969 (NEPA) (42 U.S.C. 4332(C)) when developing national wildlife refuge Comprehensive Conservation Plans and public use management plans, and we make determinations required by NEPA before the addition of national wildlife refuges to the lists of areas open to public uses. The revisions to regulations as proposed in this document resolve a variety of issues concerning our administration of national wildlife refuge uses. In accordance with 516 DM 2, Appendix 1.10, we have determined that this document is categorically excluded from the NEPA process because it is limited to policies, directives, regulations and guidelines of an administrative, financial, legal, technical or procedural nature; or the environmental effects of which are too broad, speculative or conjectural to lend themselves to meaningful analysis. Site-specific proposals, as indicated above, will be subject to the NEPA process.

Government-to-Government Relationship With Tribes

In accordance with the President's memorandum of April 29, 1994, “Government-to-Government Relations with Native American Tribal Governments” (59 FR 22951) and 512 DM 2, we have evaluated possible effects on federally recognized Indian tribes and have determined that there are no effects. In Alaska, this regulation would not apply to the development and use of Alaska Native Claims Settlement Act (ANCSA), 22(g) village lands in Alaska national wildlife refuges.

Primary Author

Brad Knudsen, Refuge Program Specialist, National Wildlife Refuge System, U.S. Fish and Wildlife Service, is the primary author of this notice.

Refuge Management—Part 601 National Wildlife Refuge System

Chapter 1 National Wildlife Refuge System Mission and Goals and Purposes 601 FW 1

1.1 What is the purpose of this chapter? This chapter reiterates the mission of the National Wildlife Refuge System, how it relates to the mission of the Fish and Wildlife Service, and explains the relationship of the System mission and goals, and the purpose(s) of each unit of the System. This chapter provides goals for the System and guidance for identifying or determining the purpose(s) of each unit within the System. This chapter also provides guidance on the use of goals and purposes in the administration and management of the System.

1.2 What is the scope of this chapter? This chapter applies to all units of the System. For purposes of this chapter, a unit of the System is defined as all lands, waters, and interests therein administered by the U.S. Fish and Wildlife Service as wildlife refuges, wildlife ranges, wildlife management areas, waterfowl production areas, coordination areas and other areas for the protection and conservation of fish and wildlife including those threatened with extinction as determined in writing by the Director or so directed by Presidential or Secretarial order.

1.3 How do the System mission, goals, and unit purpose(s) relate to each other? Collectively, the System mission, goals, and unit purpose(s) define the duty of the U.S. Fish and Wildlife Service in the administration and management of any unit of the System. Ideally, the System mission, goals, and unit purpose(s) are viewed as symbiotic in nature; however, priority is given to achieving a unit's purpose(s) when conflicts with the System mission or a specific goal are identified. Unit purposes form the foundation for developing goals and objectives for units during Comprehensive Conservation Plan preparation, and provide the basis for determining the appropriateness and compatibility of existing and proposed uses on units.

1.4 What is the mission of the National Wildlife Refuge System? The National Wildlife Refuge System Administration Act of 1966 (NWRSAA-1966), as amended by the National Wildlife Refuge System Improvement Act of 1997 (NWRSIA-1997), states the following: “The mission of the National Wildlife Refuge System is to administer a national network of lands and waters for the conservation, management, and where appropriate, restoration of the fish, wildlife, and plant resources and their habitats within the United States for the benefit of present and future generations of Americans.”

1.5 How does the mission of the System relate to the mission of the Service? The mission of the Service set forth in National Policy Issuance 99-01 is: “Our mission is working with others, to conserve, protect and enhance fish, wildlife, and plants and their habitats for the continuing benefit of the American people.” To accomplish this mission, there is a clear need for a network of lands and waters representing the diversity of landscapes and ecosystems of the United States dedicated to the conservation of fish, wildlife, and plants. While the mission of the System and purposes of individual units are paramount, it is recognized that the System contributes a vital component to the Service mission.

1.6 What are the goals of the System? The administration, management, and growth of the System are guided by the following goals:

A. To fulfill our statutory duty to achieve refuge purpose(s) and further the System mission.

B. Conserve, restore where appropriate, and enhance all species of fish, wildlife, and plants that are endangered or threatened with becoming endangered.

C. Perpetuate migratory bird, interjurisdictional fish, and marine mammal populations.

D. Conserve a diversity of fish, wildlife, and plants.

E. Conserve and restore where appropriate representative ecosystems of the United States, including the ecological processes characteristic of those ecosystems.

F. To foster understanding and instill appreciation of native fish, wildlife, and plants, and their conservation, by providing the public with safe, high-quality, and compatible wildlife-dependent public use. Such use includes hunting, fishing, wildlife observation and photography, and environmental education and interpretation.

1.7 What do these goals mean? Goal A. The U.S. Fish and Wildlife Service is entrusted with the stewardship of America's National Wildlife Refuge System. Our first obligation in meeting that trust is the non-discretionary duty to fulfill refuge purpose(s). We may not discard that obligation in pursuit of other objectives. We may, in order to fulfill the broader System mission, and the further goals enumerated below, manage a refuge to achieve additional wildlife conservation purposes and needs, unforseen, unknown, or resulting from circumstances unanticipated at the time of refuge establishment. These additional efforts will be additive to the achievement of refuge purpose(s), which is our first and highest obligation.

Goal B. Threatened and endangered species are those listed as such by the Service or the National Marine Fisheries Service. As we manage to achieve unit purposes, we are mindful of our obligations under section 2(c)(1) of the Endangered Species Act and we strive to be a model for other Federal land management agencies in fulfilling that obligation. We protect and manage candidate and proposed species to enhance their status and help preclude the need for listing. Per Service policy [see Section 1.2(C) of the Service's “Section 7 Consultation Handbook”, March 1998], we will consult or confer with Service Ecological Services staff on any actions authorized, funded, or carried out on System units that may affect listed, proposed, or candidate species or designated or proposed critical habitat.

Goal C. We strive to meet the needs of all migratory birds in our habitat strategies, especially those species which are rare, declining, or tied directly to a unit's purpose(s). We contribute to such efforts as the North American Bird Conservation Initiative, and continue to recognize the System's role in the perpetuation of the continent's waterfowl resource: more than 200 refuges and thousands of waterfowl production areas have been established for purpose of waterfowl or migratory bird conservation. We emphasize the conservation and management of those marine mammals for which the Service has been given primary management authority, including polar bears, walruses, sea otters, manatees, and dugongs, as well as the conservation of any marine mammal using System lands or waters. We emphasize the conservation and management of those fish populations using System waters and whose life-cycle movements cross international, State, or Tribal boundaries. Examples include anadromous species of salmon and free-roaming species endemic to large river systems, such as paddlefish and sturgeon.

Goal D. We sustain all native species of animals and plants that inhabit units of the System through our efforts to maintain the biological diversity, biological integrity, and environmental health of each unit. This does not preclude the consumptive use of some species when compatible with a unit's purpose(s) and the System mission, or the population management of some species to help achieve a unit's purpose(s). Some units were established primarily to protect populations of certain animal species that have a unique historic and cultural legacy in North America. We continue to emphasize the conservation of those native species tied directly to the establishment purpose(s) of units.

Goal E. Through our management and acquisition efforts, we assist states, Tribes, other agencies and conservation groups in preserving those ecosystems, plant communities, wetlands of national or international significance, and/or landscapes that are unique, rare, declining, or under-represented in existing conservation lands. We use existing and emerging classification systems that identify such ecosystems and/or resources to guide our preservation, restoration, and acquisition efforts. We care for our special designation lands such as wilderness, natural areas, wild and scenic rivers, national monuments, and national natural landmarks, and, where appropriate, expand these designations on existing and new units. We strive to establish and maintain a network of biological reserves to ensure preservation and genetic exchange of our Nation's diverse natural heritage in partnership with other Federal land management agencies, States, conservation organizations, and members of the public participating on a voluntary basis.

Goal F. We recognize that a higher awareness of, and appreciation for, the value of fish and wildlife conservation is gained in part by providing opportunities for people to engage in compatible wildlife-dependent recreation. This higher awareness and appreciation ultimately contributes to the mission of the System. Thus, we facilitate opportunities for hunting, fishing, wildlife observation and photography, and environmental education and interpretation that are compatible with a unit's purpose(s) and the System mission. Our interpretive and education programs also include historic and cultural resources found on units. We actively seek partnerships for our public use programs when a lack of funds or staff limit implementation.

1.8 How do these goals relate to management priorities? The NWRSAA-1966, as amended, sets forth the following priority for management activities: (1) Wildlife, (2) wildlife-dependent recreational uses, and (3) other uses. Thus, goals dealing with fish, wildlife, and plants, and the habitat or ecosystems on which they depend, take priority over wildlife-dependent uses or any other uses of System lands. Wildlife-dependent recreational uses in turn take priority over those uses which are not wildlife-dependent. Each unit contributes to one or more of the goals of the System, depending on the purpose(s) of the unit, a unit's geographic and ecological setting, and the unique characteristics, potential, or limitations of each unit.

1.9 How will we use these goals of the System? These goals help step down the System mission and statements on System management as written in the NWRSAA-1997, as amended. Collectively, these goals articulate the foundation for our stewardship of the System and define the unique niche it occupies among the various Federal land systems. We consider these goals in developing wildlife population and habitat goals and objectives at the System, regional, ecosystem, and unit level; in providing a frame of reference for Comprehensive Conservation Plans; to guide the land acquisition decision-making process; to assist managers in applying sound professional judgment to their decisions while carrying out the purpose(s) of their units and in determining whether proposed uses are appropriate and compatible; and as a guide when developing other policies on System administration and management.

1.10 What is meant by the term “unit purpose?” Unit purpose refers to the justification for the establishment of a unit of the System as a place owned by the American people and cared for on their behalf. The NWRSAA-1966, as amended, defines “purposes of the refuge” as the “purposes specified in or derived from the law, proclamation, executive order, agreement, public land order, donation document, or administrative memorandum establishing, authorizing, or expanding a refuge, refuge unit, or refuge subunit.”

1.11 Why are unit purposes important? Purposes define the essential objective of our refuge stewardship. They constitute a non-discretionary obligation as the legislative, legal, and administrative foundations for the administration and management of a unit of the System. This includes planning, setting unit goals and objectives, and authorization of public uses, which must be shown to be appropriate and compatible with the purpose(s) of a unit and the System mission before they are allowed.

1.12 What are some examples of purposes? Units acquired under the authority of general conservation laws take on the purpose of the law. Examples of such laws include the Endangered Species Act of 1973, the Migratory Bird Conservation Act, the Fish and Wildlife Act of 1956, the Emergency Wetlands Resources Act, and the Alaska National Interest Lands Conservation Act. Executive Orders and refuge-specific legislation generally declare the purpose(s) of the unit, sometimes broadly (“as a preserve and breeding ground for native birds”), and sometimes very specifically (“to protect and preserve in the national interest the Key deer and other wildlife resources in the Florida Keys.”).

1.13 Where can the purpose(s) of each unit of the System be found? The publication “Purposes for Refuges of the National Wildlife Refuge System” contains the official purpose(s) for each unit. This publication is updated annually to include new additions to the System, and can be found by using the “Search—databases” on the System web server at http://refuges.fws.gov.

1.14 If a unit has multiple purposes, do some purposes take priority over others? Unless otherwise indicated in the establishing law, order, or other document, purposes dealing with the conservation, management, and restoration of fish, wildlife, and plants, and the habitats on which they depend, take precedent over other purposes in the management and administration of any unit. Where a refuge has multiple purposes related to fish, wildlife and plant conservation, the more specific purpose will take precedent in instances of conflict. Designated wilderness assumes the purposes of the Wilderness Act of 1964 in addition and equal to other unit purposes, unless otherwise specified in the wilderness designation.

1.15 How does the purpose(s) associated with acquiring new lands for existing units relate to the original purpose(s) of the existing units? When an addition to a unit is acquired under an authority different from the authority used to establish the original unit, the addition also takes on the purpose(s) of the original unit, but the original unit does not take on the purpose(s) of the addition.

1.16 How does the Wilderness Act affect a unit's purpose? The purposes of the Wilderness Act become additional and equal purposes of units with designated wilderness, but apply only to those areas so designated. The purposes of the Wilderness Act include both the preservation of wilderness condition and character, and the use and enjoyment of wilderness.

1.17 What is the process for determining purposes of units? The purpose(s) of existing units may be found as described in section 1.13. We will use the decision process outlined in Exhibit 1 to determine the purpose(s) of a unit. This process can be applied to all System acquisitions, including excess military lands, land exchanges, or condemnations by focusing on the acquisition authority for the particular property. This process takes into account those rare cases where acquisition authority provides a vague purpose. This process should be used for each parcel or group of parcels included under different acquisition authorities, until the purpose for each authority has been determined.

Exhibit 1—Decision Process for Determining Unit Purposes

Step I. Was the unit established by an Executive Order, public land order, or Secretarial Order?

A. Yes.

1. The document specifies the purpose(s) for the unit—DONE.

2. The document does not specify a purpose:

What is the historical record of management, management plans, and the biological history of the area? Articulate the purpose(s) for Director's approval—DONE.

3. If any lands/waters at this unit were not included under any additional authorities—DONE.

4. If any lands/waters at this unit were included under additional authorities, go to Step II.

B. No. Go to Step II.

Step II. Was the unit established or authorized by unit-specific legislation?

A. Yes.

1. The legislation states the purpose(s) of the unit—DONE.

2. The legislation does not specify a purpose:

Further research is required including legislative history, agency testimony in the Congressional Record, or documents approved by the Director, or lacking these, the biological history of the area, resource inventories, or other resource-based documentation. Articulate the purpose(s) for Director's approval—DONE.

3. If any lands/waters at this unit were not included under any additional authorities—DONE.

4. If any lands/waters at this unit were included under additional authorities, go to Step III.

B. No. Go to Step III.

Step III. Was the unit established or acquired by the authority of one or more of the following 14 laws that grant the Service acquisition authority?

1. An Act Authorizing the Transfer of Certain Real Property

2. Bankhead-Jones Farm Tenant Act

3. Consolidated Farm and Rural Development Act

4. Colorado River Storage Act

5. Emergency Wetlands Resources Act of 1986

6. Endangered Species Act of 1973

7. Fish and Wildlife Act of 1956

8. Fish and Wildlife Coordination Act

9. Lea Act

10. Migratory Bird Conservation Act

11. Migratory Bird Hunting and Conservation Stamp Act

12. North American Wetlands Conservation Act

13. National Wildlife Refuge System Administration Act of 1966

14. Refuge Recreation Act

A. Yes.

1. The purpose for acquisition is stated in the law and becomes the purpose of the unit—DONE.

2. If any lands/waters at this unit were not included under any additional authorities—DONE.

3. If any lands/waters at this unit were included under additional authorities, go to Step IV.

B. No. Go to Step IV.

Step IV. Was the unit donated to the Service?

A. Yes.

1. Research is required, including legislation that grants authority for donations, any biological reports on the unit or adjacent area, a review of fish, wildlife, and plant species of significance using the unit, and any conditions set forth in the donation letter or memorandum that do not conflict with the mission of the System. Articulate the purpose(s) for Director's approval.

Dated: December 18, 2000.
Jamie Rappaport Clark,
Director, Fish and Wildlife Service.

[FR Doc. 01-20 Filed 1-12-01; 8:45 am]

BILLING CODE 4310-55-U